NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by November 27, 2017. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2017-034) to David W. Johnston on January 6, 2017. The issued permit allows the permit holder and his agents to use unmanned aircraft systems (UAS) for photogrammetry and capture of behavior by video of whales and seabirds, including penguins. The UAS is also used to conduct transect-type surveys of penguin and other seabird colonies, including colonies at Avian Island, ASPA no. 117.

Now the applicant proposes a modification to his permit to use unmanned aircraft systems (UAS) for photogrammetry and population assessments by video of Antarctic seals. The permit holder plans overflights that may result in the disturbance of Antarctic fur seals (n=6000/year), crabeater seals (n=6000/year), leopard seals (n=2000/year), southern elephant seals (n=2000/year), and Weddell seals (n=2000/year). Authorization for the overflight of seals by UAS from the National Marine Fisheries Service under the authority of the Marine Mammal Protection Act of 1972, as amended (16 U.S.C. 1361 et seq.) is pending.

Location: Antarctic Peninsula region; Torgersen Island; ASPA No. 117, Avian Island, Marguerite Bay.

Dates of Permitted Activities: November 1, 2017-March 31, 2019.

Nadene G. Kennedy,
Polar Coordination Specialist, Office of Polar Programs.

[FR Doc. 2017-23316 Filed 10-25-17; 8:45 am]

BILLING CODE 7555-01-P